ENVIRONMENTAL PROTECTION AGENCY

[EPA-HQ-ORD-2016-0467; FRL-9949-80-ORD]

Board of Scientific Counselors Safe and Sustainable Water Resources Subcommittee; Notification of Public Meeting and Public Comment

AGENCY: Environmental Protection Agency (EPA).

ACTION: Notification of public meeting and public comment.

SUMMARY: Pursuant to the Federal Advisory Committee Act, Public Law 92-463, the U.S. Environmental Protection Agency (EPA) hereby provides notice that the Board of Scientific Counselors (BOSC) Safe and Sustainable Water Resources Subcommittee (SSWR) will host a public meeting at the Hyatt Regency in Cincinnati, Ohio, convening on Wednesday, August 24, 2016, from 8:30 a.m. to 5:00 p.m.; and Thursday, August 25, 2016, 8:00 a.m. to 3:00 p.m. Eastern Time. The focus of the meeting will be on discussing the Safe and Sustainable Water Resources Strategic Research Action Plan's water systems research. There will be a public comment period from 10:45 a.m. to 11:15 a.m. Eastern Time on August 25, 2016.

For information on registering to attend the meeting or to provide public comment, please see the SUPPLEMENTARY INFORMATION section below. Pre-registration is required. The deadline to sign up to speak during the public comment period closes August 19, 2016. The deadline to submit written public comment is August 22, 2016.

DATES: The BOSC SSWR meeting will be held on Wednesday, August 24, 2016, from 8:30 a.m. to 5:00 p.m.; and Thursday, August 25, 2016, 8:00 a.m. to 3:00 p.m. All times noted are Eastern Time and are approximate.

FOR FURTHER INFORMATION CONTACT: Questions or correspondence concerning the meeting should be directed to Tom Tracy, Designated Federal Officer, Environmental Protection Agency, by mail at 1200 Pennsylvania Avenue NW., (MC 8104 R), Washington, DC 20460, by telephone at 202-564-6518; fax at 202-565-2911; or via email at tracy.tom@epa.gov.

SUPPLEMENTARY INFORMATION: The Charter of the BOSC states that the advisory committee shall provide independent advice to the Administrator on technical and management aspects of the ORD's research program. Additional information about the BOSC is available at: http://www2.epa.gov/bosc.

Registration: In order to attend the meeting you must register at the following site: http://www.eventbrite.com/e/us-epa-bosc-safe-and-sustainable-water-resources-subcommittee-tickets-26329523313. Once you have completed the online registration, you will be contacted and provided with the meeting information and ticket.

Oral Statements: Members of the public who wish to provide oral comment during the meeting must preregister. Individuals or groups making remarks during the public comment period will be limited to five (5) minutes. To accommodate the number of people who want to address the BOSC SSWR Subcommittee, only one representative of a particular community, organization, or group will be allowed to speak.

Written Statements: Written comments for the public meeting must be received by Monday, August 22, 2016, and will be included in the materials distributed to the BOSC SSWR Subcommittee prior to the meeting. Written comments should be sent to Tom Tracy, Environmental Protection Agency, via email at tracy.tom@epa.gov or by mail to 1200 Pennsylvania Avenue NW., (MC 8104 R), Washington, DC 20460, or submitted through regulations.gov, Docket ID No. EPA-HQ-ORD-2015-0467. Members of the public should be aware that their personal contact information, if included in any written comments, may be posted online at regulations.gov.

Information about Services for Individuals with Disabilities: For information about access or services for individuals with disabilities, please contact Tom Tracy, at 202-564-6518 or via email at tracy.tom@epa.gov. To request special accommodations, please contact Tom Tracy no later than August 19, 2016, to give the Environmental Protection Agency sufficient time to process your request. All requests should be sent to the address, email, or phone number listed in the FOR FURTHER INFORMATION section above.

Dated: July 21, 2016.
Fred S. Hauchman,
Director, Office of Science Policy.

[FR Doc. 2016-17788 Filed 7-26-16; 8:45 am]

BILLING CODE 6560-50-P